DEPARTMENT OF TRANSPORTATION

Federal Aviation Administration

Noise Exposure Map Notice Louisville International Airport, Louisville, KY

AGENCY: Federal Aviation Administration, United States Department of Transportation.

ACTION: Notice.

SUMMARY: The Federal Aviation Administration (FAA) announces its determination that the Noise Exposure Maps submitted by the Louisville Regional Airport Authority for the Louisville International Airport are in compliance with applicable requirements.

DATES: The FAA's determination on the noise exposure maps was made as of August 10, 2017.

FOR FURTHER INFORMATION CONTACT: Felicia Johnson, Federal Aviation Administration, Southern Region/Atlanta Airports District Office, 1701 Columbia Ave., Room 220, College Park, GA 30337. (404) 305-6708.

SUPPLEMENTARY INFORMATION: This notice announces that the FAA finds that the Noise Exposure Maps submitted for Louisville International Airport are in compliance with applicable requirements of 14 CFR part 150, as of August 10, 2017. Under 49 U.S.C. 47503, or the Aviation Safety and Noise Abatement Act of 1979 (the Act), an airport operator may submit to the FAA Noise Exposure Maps which meet applicable regulations and which depict non-compatible land uses as of the date of submission of such maps, a description of projected aircraft operations, and the ways in which such operations will affect such maps. The Act requires such maps to be developed in consultation with interested and affected parties in the local community, government agencies, and persons using the airport. An airport operator who has submitted Noise Exposure Maps that are found by FAA to be in compliance with the requirements of 14 CFR part 150, promulgated pursuant to the Act, may submit a Noise Compatibility Program for FAA approval which sets forth the measures the airport operator has taken or proposes to take to reduce existing non-compatible uses and prevent the introduction of additional non-compatible uses.

The FAA has completed its review of the Noise Exposure Maps and accompanying documentation submitted by the Louisville Regional Airport Authority. The documentation that constitutes the “Noise Exposure Maps” as defined in 14 CFR part 150.7 includes: Figure 1. Louisville International Airport and Surrounding Communities; Figure 4. Existing Condition (2016) Noise Exposure Map; Figure 5. Forecast Condition (2021) Noise Exposure Map; Figure 6. Comparison of Existing (2016) and Forecast (2021) Noise Exposure Maps; Figure 7. South Flow Arrival and Departure Tracks; Figure 8. North Flow Arrival and Departure Tracks; Figure 9. Military Arrival and Departure Tracks; Figure 10. Flight Track Density Plot for Louisville International Airport Jet Departures; Figure 11. Flight Track Density Plot for Louisville International Airport Jet Arrivals; Table 1. 14 CFR part 150 Noise/Land Use Compatibility Guidelines; Table 2. 14 CFR part 150 Noise Exposure Map Checklist; Table 3. Runway Details; Table 4. 2016 Operations Summary; Table 5. Modeled Average Daily Aircraft Operations for 2016; Table 6. 2021 Operations Summary; Table 7. Modeled Average Daily Aircraft Operations for 2021; Table 8. Overall Runway Use Percentages for 2016; Table 9. Modeled Average Daily Runway Use for 2016; Table 10. Modeled Average Daily Civilian Turbojet Runway Use by Time of Day for 2016; Table 11. Annual Average Contraflow Percentages; Table 12. Two-Year Historical Average Daily Runway Use for Late Morning Time of Day; Table 13. Overall Runway Use Percentages for 2021; Table 14. Modeled Average Daily Runway Use for 2021; Table 15. Modeled Average Daily Civilian Turbojet Runway Use by Time of Day for 2021; Table 16. Military Fixed-Wing Aircraft Flight Tracks and Use; Table 17. Comparison of Land Area Enclosed by the 2016 and 2021 decibel (dB) Day-Night Sound Level (DNL) Contours; Table 18. Number of Historic Resources and Non-Residential Sensitive Receptors within the 2016 and 2021 DNL Contours 58; Table 19. Listing of Historic Resources and Non-Residential Sensitive Receptors within the 2016 and 2021 DNL Contours 59; Table 20. Estimated Residential Population within 20J 6 and 2021 DNL Contours. The FAA has determined that these Noise Exposure Maps and accompanying documentation are in compliance with applicable requirements. This determination is made as of August 10, 2017.

FAA's determination on the airport operator's Noise Exposure Maps is limited to a finding that the maps were developed in accordance with the procedures contained in Appendix A of 14 CFR part 150. Such determination does not constitute approval of the airport operator's data, information or plans, or a commitment to approve a Noise Compatibility Program or to fund the implementation of that Program. If questions arise concerning the precise relationship of specific properties to noise exposure contours depicted on a Noise Exposure Map submitted under 49 U.S.C. 47503, it should be noted that the FAA is not involved in any way in determining the relative locations of specific properties with regard to the depicted noise exposure contours, or in interpreting the Noise Exposure Maps to resolve questions concerning, for example, which properties should be covered by the provisions of 49 U.S.C. 47506. These functions are inseparable from the ultimate land use control and planning responsibilities of local government. These local responsibilities are not changed in any way under 14 CFR part 150 or through FAA's review of the Noise Exposure Maps. Therefore, the responsibility for the detailed overlaying of noise exposure contours onto the map depicting properties on the surface rests exclusively with the airport operator that submitted those maps, or with those public agencies and planning agencies with which consultation is required under 49 U.S.C. 47503. The FAA has relied on the certification by the airport operator, under 14 CFR 150.21, that the statutorily required consultation has been accomplished.

Copies of the full Noise Exposure Map documentation and the FAA's evaluation of the maps are available for examination by appointment at the following locations: Federal Aviation Administration Memphis Airports District Office, 2600 Thousand Oaks Blvd., Suite 2250, Memphis, TN 38118; Regional Airport Authority of Louisville and Jefferson County, P.O. Box 9129, Louisville, Kentucky 40209.

Any questions or requests for such an appointment may be directed to the individual named under the FOR FURTHER INFORMATION CONTACT heading of this notice.

Issued at Memphis Airports District Office on November 9, 2017.
Tommy L. Dupree,
Acting Manager.

[FR Doc. 2017-26773 Filed 12-12-17; 8:45 am]

BILLING CODE 4910-13-P